DEPARTMENT OF ENERGY

Federal Energy Regulatory Commission

Combined Notice of Filings #2

Take notice that the Commission received the following electric rate filings:

Docket Numbers: ER10-1107-002.

Applicants: Pacific Gas and Electric Company.

Description: Pacific Gas and Electric Company submits updated market power analysis for the Southwest Region.

Filed Date: 12/31/2012.

Accession Number: 20121231-5104.

Comments Due: 5 p.m. ET 3/1/13.

Docket Numbers: ER10-2854-001.

Applicants: ConocoPhillips Company.

Description: Notice of Non-Material Change in Status of ConocoPhillips Company.

Filed Date: 12/31/12.

Accession Number: 20121231-5130.

Comments Due: 5 p.m. ET 1/22/13.

Docket Numbers: ER11-3401-008.

Applicants: Golden Spread Panhandle Wind Ranch, LLC.

Description: Golden Spread Panhandle Wind Ranch, LLC submit Updated Market Power Analysis for Southwest Power Pool, Inc. Region.

Filed Date: 12/31/12.

Accession Number: 20121231-5133.

Comments Due: 5 p.m. ET 3/1/13.

Docket Numbers: ER11-4683-003; ER11-4684-003; ER11-2489-003; ER12-726-002; ER12-2639-001; ER11-3620-004; ER11-2882-005; ER10-2432-004; ER10-2435-004; ER10-2440-004; ER10-2442-004; ER10-2444-004; ER10-2446-004; ER10-2449-004; ER12-1431-002; ER12-1434-002; ER12-1432-002; ER12-1435-002; ER10-3139-004; ER12-2510-001; ER12-2511-001; ER12-2512-001; ER12-2513-001.

Applicants: Elizabethtown Energy, LLC, Lumberton Energy, LLC, Hatchet Ridge Wind, LLC, Spring Valley Wind LLC, Ocotillo Express LLC, Lyonsdale Biomass, LLC, ReEnergy Sterling CT Limited Partnership, Bayonne Plant Holding, L.L.C., Camden Plant Holding, L.L.C., Dartmouth Power Associates Limited Partnership, Elmwood Park Power, LLC, Newark Bay Cogeneration Partnership, L.P, Pedricktown Cogeneration Company LP, York Generation Company LLC, ReEnergy Ashland LLC, ReEnergy Fort Fairfield LLC, ReEnergy Livermore Falls LLC, ReEnergy Stratton LLC, Black River Generation, LLC, C.P. Crane LLC, H.A. Wagner LLC, Raven Power Marketing LLC, Brandon Shores LLC.

Description: Notification of Non-Material Change in Status of Elizabethtown Energy, LLC, et al.

Filed Date: 12/31/12.

Accession Number: 20121231-5119.

Comments Due: 5 p.m. ET 1/22/13.

Docket Numbers: ER13-672-000.

Applicants: Public Service Company of Colorado.

Description: 2012-12-27-NSP-Tran-to-Load-Agrmt-547 to be effective 1/1/2013.

Filed Date: 12/31/12.

Accession Number: 20121231-5000.

Comments Due: 5 p.m. ET 1/22/13.

Docket Numbers: ER13-673-000.

Applicants: PJM Interconnection, L.L.C.

Description: 2012 Annual RTEP Allocation Filing to be effective 1/1/2013.

Filed Date: 12/31/12.

Accession Number: 20121231-5050.

Comments Due: 5 p.m. ET 1/22/13.

Docket Numbers: ER13-674-000.

Applicants: Midwest Independent Transmission System Operator, Inc.

Description: 12-31-2012 O, GG MM Clean-up Filing to be effective 1/1/2013.

Filed Date: 12/31/12.

Accession Number: 20121231-5051.

Comments Due: 5 p.m. ET 1/22/13.

Docket Numbers: ER13-675-000.

Applicants: Catalina Solar, LLC.

Description: Catalina Solar MBR Compliance Filing to Update Citation to be effective 11/15/2012.

Filed Date: 12/31/12.

Accession Number: 20121231-5066.

Comments Due: 5 p.m. ET 1/22/13.

Docket Numbers: ER13-676-000.

Applicants: Calpine Power America—CA, LLC.

Description: Revised Market-Based Rate Tariff to be effective 1/1/2013.

Filed Date: 12/31/12.

Accession Number: 20121231-5067.

Comments Due: 5 p.m. ET 1/22/13.

Docket Numbers: ER13-677-000.

Applicants: Shiloh IV Lessee, LLC.

Description: Shiloh IV Lessee MBR Compliance Filing to Update Citation to be effective 12/15/2012.

Filed Date: 12/31/12.

Accession Number: 20121231-5079.

Comments Due: 5 p.m. ET 1/22/13.

Docket Numbers: ER13-678-000.

Applicants: Bangor Hydro Electric Company, ISO New England Inc.

Description: Oakfield LGIA to be effective 3/2/2013.

Filed Date: 12/31/12.

Accession Number: 20121231-5093.

Comments Due: 5 p.m. ET 1/22/13.

Docket Numbers: ER13-679-000.

Applicants: NV Energy, Inc.

Description: NV Energy, Inc. submits tariff filing per 35.13(a)(2)(iii: OATT Revisions to Attachment N—LGIA and Attachment O—SGIA to be effective 3/1/2013.

Filed Date: 12/31/12.

Accession Number: 20121231-5122.

Comments Due: 5 p.m. ET 1/22/13.

Docket Numbers: ER13-680-000.

Applicants: Shiloh IV Lessee, LLC.

Description: Shiloh IV Lessee, LLC submits tariff filing per 35.15: Shiloh IV Wind Project FERC Electric Tariff Cancellation to be effective 12/31/2012.

Filed Date: 12/31/12

Accession Number: 20121231-5126

Comments Due: 5 p.m. ET 1/22/13.

Docket Numbers: ER13-681-000.

Applicants: The Empire District Electric Company.

Description: The Empire District Electric Company submits tariff filing per 35.13(a)(2)(i): Revised GFR Template Detail Attachment D to be effective 1/1/2013.

Filed Date: 12/31/12.

Accession Number: 20121231-5127.

Comments Due: 5 p.m. ET 1/22/13.

Docket Numbers: ER13-682-000.

Applicants: PJM Interconnection, L.L.C.

Description: PJM Interconnection, L.L.C. submits tariff filing per 35.13(a)(2)(iii: PJM NQ—Original SA Nos. 3461, 3462, 3463, 3464, 3465, 3466, 3467, 3468 to be effective 11/28/2012.

Filed Date: 12/31/12.

Accession Number: 20121231-5144.

Comments Due: 5 p.m. ET 1/22/13.

Take notice that the Commission received the following electric reliability filings:

Docket Numbers: RR13-1-000.

Applicants: North American Electric Reliability Corporation.

Description: North American Electric Reliability Corporation Petition for Approval of Amendments to the Regional Delegation Agreement with ReliabilityFirst Corporation.

Filed Date: 12/28/12.

Accession Number: 20121228-5269.

Comments Due: 5 p.m. ET 1/18/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 31, 2012.
Nathaniel J. Davis, Sr.,
Deputy Secretary.

[FR Doc. 2013-00398 Filed 1-10-13; 8:45 am]

BILLING CODE 6717-01-P